DEPARTMENT OF TRANSPORTATION

Coast Guard

33 CFR Part 117

[CGD01-01-178]

Drawbridge Operation Regulations: Shaw Cove, CT

AGENCY: Coast Guard, DOT.

ACTION: Notice of temporary deviation from regulations.

SUMMARY: The Commander, First Coast Guard District, has issued a temporary deviation from the drawbridge operation regulations which govern the Amtrak Bridge, mile 0.0, across Shaw Cove at New London, Connecticut. This deviation allows the bridge to remain in the closed position from 10 p.m. on October 21, 2001 through 10 p.m. on October 24, 2001. This action is necessary to facilitate scheduled maintenance at the bridge.

DATES: This deviation is effective October 21, 2001, through October 24, 2001.

FOR FURTHER INFORMATION CONTACT: Joseph Schmied, Project Officer, First Coast Guard District, at (212) 668-7165.

SUPPLEMENTARY INFORMATION: The Amtrak Bridge, at mile 0.0, across the Shaw Cove has a vertical clearance of 3 feet at mean high water, and 6 feet at mean low water in the closed position. The existing drawbridge operating regulations are listed at 33 CFR 117.223.

The bridge owner, the National Railroad Passenger Corporation (Amtrak), requested a temporary deviation from the drawbridge operating regulations to facilitate necessary maintenance at the bridge, the replacement of the vertical shaft couplings at the bridge.

This deviation from the operation regulations allows the bridge to remain in the closed position from 10 p.m. on October 21, 2001 through 10 p.m. on October 24, 2001. Vessels that can pass under the bridge without a bridge opening may do so at all times.

This deviation from the operating regulations is authorized under 33 CFR 117.35 and all work will be performed with due speed in order to return the bridge to normal operation as soon as possible.

Dated: September 27, 2001.
G.N. Naccara,
Rear Admiral, U.S. Coast Guard, Commander, First Coast Guard District.

[FR Doc. 01-25285 Filed 10-5-01; 8:45 am]

BILLING CODE 4910-15-U